DEPARTMENT OF HEALTH AND HUMAN SERVICES

Centers for Disease Control and Prevention

[60Day-09-09CV]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

All-Hazards Public Health Emergency Preparedness and Response Generic Data Collection—New—Coordinating Office for Terrorism Preparedness and Emergency Response (COTPER), Centers for Disease Control and Prevention (CDC).

Background and Brief Description

Data from agencies and individuals are needed to assist CDC in responding to and planning for domestic and international all-hazards public health emergencies. According to the glossary from the National Response Framework Resource Center, “all-hazards” is defined as “describing an incident, natural or manmade, that warrants action to protect life, property, environment, and public health or safety, and to minimize disruptions of government, social, or economic activities.” This generic IC requests the authority to collect a wide array of data from traditional and non-traditional public health sources to assist in this effort. This generic IC will enable CDC to collect data during public health emergencies (as the response is taking place) and after public health emergencies (as the recovery is taking place) to aid response and recovery efforts and to answer pre-determined research questions. These data may be used to inform our preparedness for subsequent emergencies that may potentially occur and also inform decisions made by CDC Director.

All-hazards public health emergencies are those events that are formally declared emergencies by Federal, State or local jurisdictions. Declarations can be made by the Secretary of the Department of Health and Human Services (DHHS) under Section 319 of the Public Health Service Act and at the state or local levels by the Governor, state public health officer, city or county council or mayor and the local public health officer respectively. During and after these emergencies, assistance may be needed to supplement State and local efforts and capabilities to save lives and to protect property and public health and safety, or to lessen or avert the threat of a catastrophe. Also, CDC may have to assist the State and local, tribal, and territorial levels of government with critical data collection to support immediate data needs for situational awareness. Situational Awareness has been defined as “the perception of elements in the environment within a volume of time and space, the comprehension of their meaning, and the projection of their status in the near future.”

A three-year OMB approval is requested to allow CDC to collect data during and after emergencies. Data collected under this generic IC will use a variety of data collection methods. Some of the methods include but are not limited to: Personal interviews, telephone interviews, focus groups, institutional record reviews, medical record reviews, and paper or Internet questionnaires and other secure electronic data exchange. Each proposed data collection submitted under this generic IC will provide information pertaining to that particular public health emergency. Respondents will be advised of the nature of the activity, the length of time required for participation and that their participation is voluntary.

There are no costs to respondents except their time.

Estimated Annualized Burden Hours
Respondents | Number of respondents | Number of responses per respondent | Average burden per response (in hours) | Total burden (in hours)
General Public | 50,000 | 1 | 1 | 50,000
Total | 50,000

Dated: September 26, 2009.
Maryam I. Daneshvar,
Acting Reports Clearance Officer, Centers for Disease Control and Prevention.

[FR Doc. E9-23883 Filed 10-2-09; 8:45 am]

BILLING CODE 4163-18-P